FEDERAL COMMUNICATIONS COMMISSION

47 CFR Part 73

[DA-1409, MM Docket No. 00-114, RM-9744]

Digital Television Broadcast Service; Great Fall, MT

AGENCY: Federal Communications Commission.

ACTION: Proposed rule.

SUMMARY: The Commission requests comments on a petition filed by KFBB Corporation, L.L.C., licensee of station KFBB-TV, NTSC Channel 5, Great Falls, Montana, requesting the substitution of DTV Channel 8 for its assigned DTV Channel 39. DTV Channel 8 can be substituted and allotted to Great Falls, Montana, as proposed, in compliance with the principle community coverage requirements of Section 73.625(a) at coordinates (47-32-08 N. and 111-17-02 W). However, since the community of Great Falls is located within 400 kilometers of the U.S.-Canadian border, concurrence by the Canadian government must be obtained for this allotment. DTV Channel 8 can be allotted to Great Falls with a power of 160 (kW) and a height above average terrain (HAAT) of 180 meters.

DATES: Comments must be filed on or before August 21, 2000, and reply comments on or before September 5, 2000.

ADDRESSES: Federal Communications Commission, 445 12th Street, SW, Room TW-A325, Washington, DC 20554. In addition to filing comments with the FCC, interested parties should serve the petitioner, or its counsel or consultant, as follows: Kenneth C. Howard, Jr., Baker & Hostetler, 1050 Connecticut Avenue, NW, Suite 1100, Washington, DC 20036-5304 (Counsel for KFBB Corporation, L.L.C.)

FOR FURTHER INFORMATION CONTACT: Pam Blumenthal, Mass Media Bureau, (202) 418-1600.

SUPPLEMENTARY INFORMATION: This is a synopsis of the Commission's Notice of Proposed Rule Making, MM Docket No. 00-114, adopted June 23, 2000, and released June 28, 2000. The full text of this Commission decision is available for inspection and copying during normal business hours in the FCC Reference Center 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-16685 Filed 6-30-00; 8:45 am]

BILLING CODE 6712-01-P